FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel Operating Common Carrier Ocean Transportation Intermediary Applicants

Toyo Logistics America, Inc., 20675 S. Western Ave., Ste. 208, Torrance, CA 90501, Officer:Yukie Ansotigue, Secretary (Qualifying Individual).

Global Relogistics, Inc., 5337 Orange Drive, Davie, FL 33314, Officer:Alon Ezra, President (Qualifying Individual).

Allstate Int'l Freight USA, Inc. dba A.I.F. Company, 200 E. Stanley Street, Compton, CA 90220, Officers:Se Hwan Park, CEO, (Qualifying Individual) Hee Yeon Yoo, CFO/Secretary.

Inter-Continental Trading, Inc. dba Inter-Continental, Trading Group, Inc.: Yuan Mao Logistics, 800 S. Date Ave., Ste. 202, Alhambra, CA 91803, Officer:Cheng Z. Zhou, President (Qualifying Individual).

Unity Van Lines, Inc., 574 Newark Ave., Ste. 206, Jersey City, NJ 07306, Officers:Idan Dachut, President, (Qualifying Individual) Michelle Dachut, Vice President.

Seamen Freight Logistics, Inc., 155-06 South Conduit Ave., Jamaica, NY 11434, Officer:Cheuk Yiu Li, President (Qualifying Individual).

Steel Direct Shipping Line, LLC, 3200 E. Frontera Street, Anaheim, CA 92806, Officers:David Thomburg, Vice President, Silvana Jones, Vice President, (Qualifying Individuals) George Adams, President.

Turkish Express Line, Inc., 115 River Road, Ste. 827, Edgewater, NJ 07020, Officers:Ipek Sokman, President, (Qualifying Individual) Oytun Cakir, Vice President.

MIA Trans Corp., 8174 SW. 118 Pl., Miami, FL 33183, Officers:Donald H. Pertuz, President, (Qualifying Individual) Marilena Pertuz, Vice President.

Access Technology Solutions, LC dba Sagawa Logistics, 5252 North Edgewood Drive, #275, Provo, UT 84604, Officers:Quinn R. Marsh, Vice President of Sales, (Qualifying Individual) Allan O'Bryant, Member.

Non-Vessel Operating Common Carrier and Ocean Freight Forwarder Transportation Intermediary Applicants

Glodex, Corp., 7235 NW. 54th Street, Miami, FL 33166, Officer:Antonia Cabaleiro, President (Qualifying Individual).

Norman G. Jensen, Inc. dba Jensen Marine Services, 3050 Metro Drive, Ste. 300, Minneapolis, MN 55425-1545, Officer:Timothy R. Thoma, Asst. Vice President Exports (Qualifying Individual).

Global Alliance (USA), Inc. dba Global Alliance Line, 9550 Flair Drive, #212, El Monte, CA 91731, Officer:Rong Xia Wang, Vice President (Qualifying Individual).

Bosmak, Inc. dba Ocean Breeze Shipping, 2501 Harford Road, Baltimore, MD 21218, Officer:Steve Onyilokwu, President (Qualifying Individual).

E-Z Cargo Inc., 501 New Country Road, Secaucus, NJ 07094, Officers:Alevtina Michina, Vice President, (Qualifying Individual) Michael Abramov, President.

United Logistics Corp., 3650 Mansell Road, #400, Alpharetta, GA 30022, Officer:Jason S. Ewing, Operations Manager (Qualifying Individual).

Martin Bencher USA, LLC, 1121 Bristol Road, Mountainside, NJ 07092, Officers:Rodger Evans, Secretary, (Qualifying Individual) Morten Olesen, Member/CEO.

Horizon Logistics, LLC dba HRZ Logistics, LLC, 600 E. Las Colinas Blvd., Ste. 550, Irving, TX 75039, Officers:Brian Taylor, President, (Qualifying Individual) Frank Knafeiz, Vice President.

Superior Shipping Line Inc., 8641 Cherry Lane, Laurel, MD 20707, Officer:Tolulope Akinso, President (Qualifying Individual).

Baseline Global Corp, 15 Rolling Hills Drive, Somerset, NJ 08873, Officers:Paul A. Byrnes, COO, (Qualifying Individual) Annabelle T. Erickson, President.

Aeromundo Express, Inc., 8282 NW. 14 Street, Miami, FL 33126, Officer:Cristino E. Luna, President (Qualifying Individual).

Jeff's Expres, LLC, 225 W. Trade Street, Burlington, NC 27217, Officers:Oswald Jeffers, CEO, (Qualifying Individual) Michelle Philips, President.

FedEx Trade Networks Transport & Brokerage, Inc., 128 Dearborn Street, Buffalo, NY 14207, Officer:Leman G. Bown, Jr., Asst. Secretary (Qualifying Individual).

Argos Freight, Inc. dba Agility Freight, Inc., 8054 East Garvey Avenue, Ste. 103, Rosemead, CA 91770, Officers:Kuan C. Lee, Secretary, (Qualifying Individual) Shiao C. Cheng, President.

Dated: July 25, 2008.
Karen V. Gregory,
Assistant Secretary.

[FR Doc. E8-17461 Filed 7-29-08; 8:45 am]

BILLING CODE 6730-01-P